DEPARTMENT OF AGRICULTURE

Forest Service

Medicine Bow-Routt National Forests and Thunder Basin National Grassland; Hahns Peak/Bears Ears Ranger District; Recreation Fees

AGENCY: Forest Service, USDA.

ACTION: Notice of intent to implement recreation fees.

SUMMARY: In accordance with the Federal Lands Recreation Enhancement Act (FLREA), recreation fees may be charged for standard amenity sites, expanded amenity sites or special recreation permits. The Medicine Bow-Routt National Forest proposes to charge new fees at two sites: Summit Creek Guard Station and Buffalo Pass Winter Recreation Area.

DATES: Comments concerning the scope of the analysis must be received by May 31, 2007. Implementation is expected to begin in December of 2007.

ADDRESSES: You may submit comments by any of the following methods:

• Web Site: http://www.fs.fed.us/r2/mbr/projects under Recreation Management. Follow the instructions for submitting comments on the Web site.

• E-mail: r2_mbr_vis@FSNOTES. Include “Recreation Fees” in the subject line of the message.

• Fax: (970) 870-2284 or (303) 745-2398.

• Mail or Hand Delivery: Ray George, Recreation Staff, Medicine Bow-Routt National Forests, 2468 Jackson St., Laramie, WY 82070.

FOR FURTHER INFORMATION CONTACT: Ray George (307) 745-2300, Medicine Bow-Routt National Forests, 2468 Jackson St., Laramie, WY 82070.

SUPPLEMENTARY INFORMATION:

Proposed Recreation Fees

• Summit Creek Guard Station—The Summit Creek Guard Station was built in 1912 to house forest rangers and their families. It includes a house and garage with electricity, indoor plumbing and propane heat and sleeps up to eight people. The compound is listed on the National Register of Historic Places. The guard station would be available to rent from approximately mid-May to late October and a nightly rental fee of $100 will be charged.

• Buffalo Pass Winter Recreation Area—In order to facilitate recreation management in an intensively used winter backcountry recreation area, all users would be required to purchase a backcountry permit to enter and recreate in the 4,980 acre Buffalo Pass Backcountry Recreation Area. The intensity and variety of uses has led to many user conflicts, safety issues, and avalanche danger. The backcountry permit will alleviate some of these conflicts by educating all users on backcountry etiquette, avalanche dangers, and sharing groomed trails. A fee is necessary to administer the permit system and provide backcountry patrols to ensure users are obtaining necessary permits. The fee will be $5.

Lead and Cooperating Agencies

The Medicine Bow-Routt National Forests is the lead agency.

Responsible Official

The responsible official is Mary Peterson, Forest Supervisor, Medicine Bow-Routt National Forests, 2468 Jackson St., Laramie, WY 82070.

Electronic Access and Filing

All future documents and information on recreation fees will be posted at http://www.fs.fed.us/r2/mbr/projects under “Recreation Management.” You may submit comments and data by sending electronic mail (E-mail) to r2_mbr_vis@FSNOTES and including “Recreation Fees” in the subject line of the message.

Dated: November 20, 2006.
Mary H. Peterson,
Forest Supervisor, Medicine Bow-Routt National Forests, USDA Forest Service.

[FR Doc. 06-9534 Filed 12-5-06; 8:45 am]

BILLING CODE 3410-11-M